DEPARTMENT OF AGRICULTURE

Rural Housing Service

Rural Business-Cooperative Service

Rural Utilities Service

Privacy Act of 1974; System of Records; USDA/Rural Development-1 Current or Prospective Producers or Landowners, Applicants, Borrowers, Grantees, Tenants, and Other Participants in RD Programs

AGENCY: Rural Housing Service, Rural Business-Cooperative Service, and Rural Utilities Service, USDA.

ACTION: Notice of proposed revision to an existing Privacy Act System of Records.

SUMMARY: In accordance with the requirements of the Privacy Act of 1974 as amended; Section 12204 of the Agricultural Act of 2014 (2014 Farm, 5 U.S.C. 552a) Rural Development (RD) gives notice of its proposal to revise the system of records entitled USDA/Rural Development-1 Applicant, Borrower, Grantee or Tenant File.

DATES: Comments must be received no later than June 7, 2016. This system of records will be effective June 7, 2016 unless Rural Development receives comments, which would result in a contrary determination.

ADDRESSES: You may submit comments on this notice by any of the following methods: You may submit written or electronic comments on this notice by any of the following methods:

• Federal eRulemaking Portal: http://www.regulations.gov. Follow the instructions for submitting comments.

• Mail: Submit written comments via the U.S. Postal Service to the Branch Chief, Regulations and Paperwork Management Branch, U.S. Department of Agriculture, 300 7th Street SW., 7th Floor, Washington, DC 20024.

• Hand Delivery/Courier: Submit written comments via Federal Express Mail or other courier service requiring a street address to the Branch Chief, Regulations and Paperwork Management Branch, U.S. Department of Agriculture, 300 7th Street SW., 7th Floor, Washington, DC 20024.

All written comments will be available for public inspection during regular work hours at the 300 7th Street SW., 7th Floor address listed above.

FOR FURTHER INFORMATION CONTACT:

For general questions, please contact: Diego Maldonado, RD Privacy Act Officer, 4300 Goodfellow Boulevard, Room 52C13, St. Louis, MO 63120-0011; 314-457-6279.

For privacy issues, please contact: Kelvin Fairfax Chief Privacy Officer, Cyber and Privacy Policy and Oversight, Office of the Chief information Officer, Department of Agriculture, Washington, DC 20250.

SUPPLEMENTARY INFORMATION: The Privacy Act of 1974, as amended (5 U.S.C. 552a), requires agencies to publish in the Federal Register notice of new or revised systems of records maintained by the agency. A system of records is a group of any records under the control of any agency, from which information is retrieved by the name of an individual or by some identifying number, symbol, or other identifying particular assigned to an individual.

In accordance with the Office of Management and Budget (OMB) Circular A-130, Rural Development of the United States Department of Agriculture (USDA) is proposing to revise an existing Privacy Act system of records, which was last published in full on July 17, 1998 (63 FR 38546).

The agency proposes to make various revisions to USDA/RD-1, including several revisions related to the receipt for services (RFS) program. Section 2501A of the Food, Agriculture, Conservation, and Trade Act of 1990 was amended by Section 14003 of the Food, Conservation, and Energy Act of 2008 (2008 Farm Bill) to require that upon the request of a current or prospective producer or landowner, certain agencies, including agencies of the Rural Development Mission Area, provide a receipt for service concerning any benefit or service offered to agricultural producers or landowners. Section 12204 of the Agricultural Act of 2014 (2014 Farm Bill) further modified this requirement to mandate the issuance of a receipt for service to every current or prospective producer or landowner that requests about any benefit or service provided to a customer by agencies of the Rural Development Mission Area (or denial of service). Accordingly, the receipt for service program provides inquirers, applicants, or customers of the Rural Business Cooperative Service, the Rural Housing Service, and the Rural Utilities Service with a receipt for service for certain types of transactions requested. While these routine uses allow disclosures outside USDA, and so have some impact on privacy of individuals, they are either necessary for carrying out the agency mission and minimizing waste, fraud, and abuse; are required by law; or benefit the subjects of the records. On balance, the needs of the agency and the benefits to the individuals of these disclosures justify the minimal impact on privacy. The current SORN is located at: http://www.ocio.usda.gov/sites/default/files/docs/2012/Rural%20Development-1.txt. Rural Development proposes to revise the System of Records to reflect the following changes:

1. A security classification is added to the System Notice.

2. The system locations section is revised to reflect organizational and office location and responsibility changes.

3. The categories of individuals covered by the system section is revised to reflect the Receipt for Services program.

4. The categories of records in the system section is revised to reflect the Receipt for Services program.

5. The authority for maintenance of the system section is revised to reflect changes in the statutory authorities.

6. A purpose(s) section is added to the System Notice.

7. RD proposes the following changes to the routine uses:

a. The language of routine uses 2, 5-13, 15, 16, and 18 is revised slightly for clarity and consistency.

b. Routine use 14 is revised to identify the system, Credit Alert Verification Reporting System (CAIVRS) that is used by the Department of Housing and Urban Development (HUD) for the purpose of prescreening applicants.

c. Routine use 17 is deleted.

d. Routine use 18 is renumbered as routine use 17 and is revised slightly for clarity and consistency.

e. New routine use 18 is added to disclose to the Department of Health and Human Services parent locator system for finding parents who do not pay child support.

f. Routine use 19 is added to allow disclosure to contractors, grantees, experts, consultants or volunteers who are performing a service on behalf of the agency.

g. Routine use 20 is added to allow disclosure of records to customer service agents for training and evaluation purposes.

h. Routine use 21 is added to allow disclosure of records to appropriate agencies, entities, and persons for purposes of response and remedial efforts in the event that there has been a breach of the data contained in the systems.

i. Routine use 22 is added to comply with Federal Funding Accountability and Transparency Act for public disclosure purposes.

j. Routine use 23 is added to allow disclosure to the National Archives and Records Administration for records management purposes.

k. Routine use 24 is added to allow disclosure to the Department of the Treasury for the purpose of identifying, preventing, or recouping improper payments.

8. The policies and practices for storing, retrieving, accessing, retaining, and disposing of records in the system section is revised to reflect changes in record keeping including use of electronic records.

9. The system manager and address section is revised to include a Web site link.

10. The record source categories section is revised to reflect the Receipt for Services program.

Dated: March 23, 2016.
Lisa Mensah,
Under Secretary, Rural Development.

SYSTEM OF RECORDS

USDA/Rural Development-1.

System name:

Applicant, Borrower, Grantee, or Tenant File.

Security Classification: unclassified.

System Location:

Each Rural Development current or prospective producers or landowners, applicants, borrowers, grantees, tenants, their respective household members, including members of associations, and other participants in RD programs. Files is located in the Local, Area, or State Office through which the financial assistance is sought or was obtained; in the Centralized Servicing Center (CSC), St. Louis, Missouri; and in the Finance Office in St. Louis, Missouri. A State Office version of the Local or Area Office file may be located in or accessible by the State Office which is responsible for that Local or Area Office. Correspondence regarding borrowers is located in the State and National Office files.

A list of all State Offices and any additional States/Offices for which an office is responsible is as follows:

Montgomery, AL

Palmer, AK

Phoenix, AZ

Little Rock, AR

Davis, CA

Lakewood, CO

Dover, DE (includes Maryland)

Gainesville, FL (includes U. S. Virgin Islands)

Athens, GA

Hilo, HI (includes Western Pacific Territories of American Samoa, Guam, and Commonwealth of the Marianas Islands, Federated States of Micronesia, Republic of Palau, and the Marshall Islands)

Boise, ID

Champaign, IL

Indianapolis, IN

Des Moines, IA

Topeka, KS

Lexington, KY

Alexandria, LA

Bangor, ME

Amherst, MA (includes Connecticut and Rhode Island)

East Lansing, MI

St. Paul, MN

Jackson, MS

Columbia, MO

Bozeman, MT

Lincoln, NE

Carson City, NV

Mt. Laurel, NJ

Albuquerque, NM

Syracuse, NY

Raleigh, NC

Bismarck, ND

Columbus, OH

Stillwater, OK

Portland, OR

Harrisburg, PA

San Juan, PR

Columbia, SC

Huron, SD

Nashville, TN

Temple, TX

Salt Lake City, UT

Montpelier, VT (includes New Hampshire)

Richmond, VA

Olympia, WA

Morgantown, WV

Stevens Point, WI

Casper, WY

The address of Local, Area, and State Offices are listed in the telephone directory of the appropriate city or town under the heading, “United States Government, Department of Agriculture, and Rural Development.” The Financial Office and CSC are located at 4300 Goodfellow Blvd., St. Louis, MO 63120-0011.

Categories of Individuals Covered by the System:

Current or prospective producers or landowners, applicants, borrowers, grantees, tenants, and their respective household members, including members of associations and other participants in RD programs.

Categories of Records in the System:

The system includes files containing the names of current or prospective producers or landowners, applicants, borrowers, grantees, tenants and their respective household members, including members of associations and other participants in RD programs. It may also include their social security or employer identification number, bank routing and account numbers; and their respective household members' characteristics, such as gross and net income, sources of income, capital, assets and liabilities, net worth, age, race, number of dependents, marital status, reference material, farm or ranch operating plans, and property appraisal. The system also includes credit reports and personal references from credit agencies, lenders, businesses, and individuals. In addition, a running record of observation concerning the operations of the person being financed is included. A record of deposits to and withdrawals from an individual's supervised bank account is also contained in those files where appropriate. In some Local Offices, this record is maintained in a separate folder containing only information relating to activity within supervised bank accounts. Some items of information are extracted from the individual's file and placed in a card file for quick reference.

Authority for maintenance of the system:

Consolidated Farm and Rural Development Act of 1972, as amended; Section 12204 of the Agricultural Act of 2014 (Pub. L. 113-79); AGRICULTURAL CREDIT 7 U.S.C. 1921 et seq.; FARM HOUSING 42 U.S.C. 1471 et seq.; Section 901 of the Food Conservation, and Energy Act of 2008 (Pub L. 110-246); RURAL ELECTRIFICATION AND TELEPHONE SERVICE 7 U.S.C. 901 et seq.

Purpose(s):

Rural Development (RD) maintains numerous information systems that are used for current or prospective producers or landowners, applicants, borrowers, grantees, tenants, and other participants in RD programs designed to help improve the economy and quality of life in rural America. These financial systems support such essential public facilities and service as water and sewer systems, housing, health clinics, emergency service facilities, and electric and telephone services. Additionally, RD systems and feeder applications promote economic development by supporting loans to businesses through banks, credit unions, and community-managed lending pools. The suite of RD systems covered by this System of Records is developed and maintained by the Deputy Chief Information Officer in St. Louis, MO and the National Development Branch in Washington, DC.

Routine uses of records maintained in the group of applications, including categories of users and the purposes of such uses:

1. When a record on its face, or in conjunction with other records, indicates a violation or potential violation of law, whether civil, criminal or regulatory in nature, and whether arising by general statute or particular program statute, or by regulation, rule, or order issued pursuant thereto, disclosure may be made to the appropriate agency, whether Federal, foreign, State, local, or tribal, or other public authority responsible for enforcing, investigating or prosecuting such violation or charged with enforcing or implementing the statute, or rule, regulation, or order issued pursuant thereto, if the information disclosed is relevant to any enforcement, regulatory, investigative or prospective responsibility of the receiving entity.

2. To a Member of Congress or to a Congressional staff member in response to an inquiry of the Congressional office made at the written request of the constituent about whom the record is maintained.

3. Rural Development will provide information from these systems to the U.S. Department of the Treasury and to other Federal agencies maintaining debt servicing centers, in connection with overdue debts, in order to participate in the Treasury Offset Program as required by the Debt Collection Improvements Act, Public Law 104-134, section 31001.

4. Disclosure to Rural Development of name, home addresses, and information concerning default on loan repayment when the default involves a security interest in tribal allotted or trust land. Pursuant to the Cranston-Gonzales National Affordable Housing Act of 1990 (42 U.S.C. 12701 et seq.), liquidation may be pursued only after offering to transfer the account to an eligible tribal member, the tribe, or the Indian housing authority serving the tribe(s).

5. Disclosure of names, home addresses, social security numbers, and financial information to a collection or servicing contractor, financial institution, or a local, State, or Federal agency, when Rural Development determines such referral is appropriate for servicing or collecting the borrower's account or as provided for in contracts with servicing or collection agencies.

6. To a court or adjudicative body in a proceeding when: (a) The agency or any component thereof; or (b) any employee of the agency in his or her official capacity; or (c) any employee of the agency in his or her individual capacity where the agency has agreed to represent the employee; or (d) the United States Government, is a party to litigation or has an interest in such litigation, and by careful review, the agency determines that the records are both relevant and necessary to the litigation and the use of such records is therefore deemed by the agency to be for a purpose that is compatible with the purpose for which the agency collected the records.

7. Disclosure of names, home addresses, and financial information for selected borrowers to financial consultants, advisors, lending institutions, packagers, agents, and private or commercial credit sources, when Rural Development determines such referral is appropriate to encourage the borrower to refinance his Rural Development indebtedness as required by Title V of the Housing Act of 1949, as amended (42 U.S.C. 1471), or to assist the borrower in the sale of the property.

8. Disclosure of legally enforceable debts to the Department of the Treasury, Internal Revenue Service (IRS), to be offset against any tax refund that may become due the debtor for the tax year in which the referral is made, in accordance with the IRS regulations at 26 CFR 301.6402-6T, Offset of Past Due Legally Enforceable Debt Against Overpayment, and under the authority contained in 31 U.S.C. 3720A.

9. Disclosure of information regarding indebtedness to the Defense Manpower Data Center, Department of Defense, and the United States Postal Service for the purpose of conducting computer matching programs to identify and locate individuals receiving Federal salary or benefit payments and who are delinquent in their repayment of debts owed to the U.S. Government under certain programs administered by Rural Development in order to collect debts under the provisions of the Debt Collection Act of 1982 (5 U.S.C. 5514) by voluntary repayment, administrative or salary offset procedures, or by collection agencies.

10. Disclosure of names, home addresses, and financial information to lending institutions when Rural Development determines the individual may be financially capable of qualifying for credit with or without a guarantee.

11. Disclosure of names, home addresses, social security numbers, and financial information to lending institutions that have a lien against the same property as Rural Development for the purpose of the collection of the debt. These loans may be under the direct and guaranteed loan programs.

12. Disclosure to private attorneys under contract with either Rural Development or with the Department of Justice for the purpose of foreclosure and possession actions and collection of past due accounts in connection with Rural Development.

13. To the Department of Justice when: (a) The agency or any component thereof; or (b) any employee of the agency in his or her official capacity where the Department of Justice has agreed to represent the employee; or (c) the United States Government, is a party to litigation or has an interest in such litigation, and by careful review, the agency determines that the records are both relevant and necessary to the litigation and the use of such records by the Department of Justice is therefore deemed by the agency to be for a purpose that is compatible with the purpose for which the agency collected the records.

14. Disclosure of names, home addresses, social security numbers, and financial information to the Department of Housing and Urban Development for the purpose of evaluating a loan applicant's creditworthiness, information that will allow for the pre-screening of applicants through the Credit Alert Verification Reporting System (CAIVRS) computer matching program. An applicant shall be pre-screened for any debts owed or loans guaranteed by the Federal government to ascertain if the applicant is delinquent in paying a debt owed to or insured by the Federal government. Authorized employees of, and approved private lenders acting on behalf of, the Federal agencies participating in the CAIVRS computer matching program will be able to search the CAIVRS database.

Explanatory Text: Credit Alert Verification Reporting System (CAIVRS) is a Federal government database of delinquent Federal debtors that when reviewed, allows Federal agencies to reduce the risk to Federal loan and loan guarantee programs. CAIVRS alerts participating Federal lending agencies when an applicant for credit benefits has a Federal lien, judgment, or a Federal loan that is currently in default or foreclosure, or has had a claim paid by a reporting agency. CAIVRS allows authorized employees of participating Federal agencies to access a database of delinquent Federal borrowers for the purpose of pre-screening direct loan applicants for credit worthiness and also permits approved private lenders acting on behalf of the Federal agency to access the delinquent borrower database for the purpose of pre-screening the credit worthiness of applicants for federally guaranteed loans. CAIVRS authority derives from the Computer Matching and Privacy Protection Act of 1988 (Pub. L. 100-503) as amended, Office of Management and Budget (OMB) Circulars A-129 (Managing Federal Credit Programs) and A-70 (Policies and Guidelines for Federal Credit Programs), the Budget and Accounting Acts of 1921 and 1950, as amended, the Debt Collection Act of 1982, as amended, the Deficit Reduction Act of 1984, as amended, and the Debt Collection Improvement Act of 1996, as amended.

15. Disclosure of names, home addresses, social security numbers, and financial information to the Department of Labor, State Wage Information Collection Agencies, and other Federal, State, and local agencies, as well as those responsible for verifying information furnished to qualify for Federal benefits, to conduct wage and benefit matching through manual and/or automated means, for the purpose of determining compliance with Federal regulations and appropriate servicing actions against those not entitled to program benefits, including possible recovery of improper benefits.

16. Disclosure of names, home addresses, and financial information to financial consultants, advisors, or underwriters, when Rural Development determines such referral is appropriate for developing packaging and marketing strategies involving the sale of Rural Development loan assets.

17. Disclosure of names, home and work addresses, home telephone numbers, social security numbers, and financial information to escrow agents (which also could include attorneys and title companies) selected by the applicant or borrower for the purpose of closing the loan.

18. Disclosure to Health and Human Services (HHS) parent locator system for finding parents who do not pay child support: The name and current address of record of an individual may be disclosed from this system of records to the parent locator service of the Department of HHS or authorized persons defined by Public Law 93-647, 42 U.S.C. 653.

19. To agency contractors, grantees, experts, consultants or volunteers who have been engaged by the agency to assist in the performance of a service related to this system of records and who need to have access to the records in order to perform the activity. Recipients shall be required to comply with the requirements of the Privacy Act of 1974, as amended, pursuant to 5 U.S.C. 552a(m).

20. Disclosure to customer service agents for training and evaluation purposes. Information is collected during calls made by the client to the CSC Customer Service Section to discuss questions or concerns pertaining to their mortgage account(s) with Rural Development. The information discussed during the call to the CSC help desk is captured and used for training and evaluation purposes to ensure proper procedures are being followed and accurate information is provided when assisting the client.

21. To appropriate agencies, entities, and persons when (1) When Rural Development suspects or has confirmed that the security or confidentiality of information in the system of records has been compromised; (2) the Department has determined that, as a result of the suspected or confirmed compromise, there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

22. To comply with Federal Funding Accountability and Transparency Act (FFATA) and similar statutory requirements for public disclosure in situations where records reflect loans, grants, or other payments to members of the public: USDA will disclose information about individuals from this system of records in accordance with the Federal Funding Accountability and Transparency Act of 2006 (Pub. L. 109-282; codified at 31 U.S.C. 6101, et seq.); section 204 of the E-Government Act of 2002 (Pub. L. 107-347; 44 U.S.C. 3501 note), and the Office of Federal Procurement Policy Act (41 U.S.C. 403 et seq.), or similar statutes requiring agencies to make available publicly information concerning Federal financial assistance, including grants, subgrants, loan awards, cooperative agreements and other financial assistance; and contracts, subcontracts, purchase orders, task orders, and delivery orders.

23. To the National Archives and Records Administration for to the National Archives and Records Administration for records management inspections conducted under 44 U.S.C. 2904 and 2906.

24. To the Department of the Treasury for the purpose of identifying, preventing, or recouping improper payments to an applicant for, or recipient of, Federal funds, including funds disbursed by a State in a State-administered, Federally funded program, information that will allow for pre-payment eligibility review of a loan applicant through the Do Not Pay computer matching program. Authorized employees of, and approved private lenders acting on behalf of, the Federal agencies participating in the Do Not Pay computer matching program will be able to search the Do Not Pay database. The disclosure may include applicant's name, home address, Social Security Number, income/financial data, date of birth, personal telephone number, and personal email address.

Explanatory Text:

In order to help eliminate waste, fraud, and abuse in Federal programs, Federal agencies are to focus on preventing payment errors before they occur. The purpose of the Department of the Treasury's Do Not Pay program is to reduce improper payments by intensifying efforts to eliminate payment error, waste, fraud, and abuse in the major programs administered by the Federal Government, while continuing to ensure that Federal programs serve and provide access to their intended beneficiaries. Federal agencies shall thoroughly review the Do Not Pay computer matching database, to the extent permitted by law to determine applicant eligibility before the release of any Federal funds. By checking the Do Not Pay database before making payments, Federal agencies can identify ineligible recipients and prevent certain improper payments from being made. The Do Not Pay program authority derives from the Improper Payments Elimination and Recovery Improvement Act of 2012 (Pub. L. 112-248).

Disclosure To Consumer Reporting Agencies:

Disclosures pursuant to 5 U.S.C. 552a(b)(12): Disclosures may be made from this system to consumer reporting agencies as defined in the Fair Credit Reporting Act (15 U.S.C. 1681a(f)) or the Federal Claims Collection Act (31 U.S.C. 3701(a)(3)).

Policies and Practices for Storing, Retrieving, Accessing, Retaining, and Disposing of Records in the System:

Storage:

Records are maintained in file folders at the Local, Area, State, and National Offices. All records are converted to electronic format and stored on a USDA managed certified and accredited storage repository. Once agency employees convert the paper documents to digital records, verify that the digital record is readable and successfully ported to the imaging repository the manual documents are destroyed in compliance with Rural Development regulation (shredding). Other program imaging repositories are utilized to allow multi-point access to electronic records but the manual documents are retained securely in the local office until such time as the account is considered closed per Rural Development Regulation 2033-A. At that time, the documents/case files are destroyed in a manner as outlined in Rural Development regulation. If the office cannot accommodate proper, manual file retention standards (inadequate space to secure and house documents/files that require retention), inactive documents/case files (i.e., charge-offs, pay-offs, denials, withdrawn) can be retired to the Federal Records Center. Any records shipped to the Center for retention must be clearly inventoried and marked with a destroy-by date. The destroy date is determined by the record type after it is closed (e.g., loss to the government retention is 7 years after case is closed). The retention schedule can be found at RD 2033-A and the Operational Records Manual. For further information contact the RD Records Officer. If closed/inactive files are retained at the local office until such time as they are eligible for destruction, they are stored in a secured location.

Retrievability:

Records are indexed by name, identification number and type of loan or grant. Data may be retrieved from the paper records or the electronic storage. All Rural Development state and field offices as well as the financial office and the Centralized Servicing Center (CSC) have the telecommunications capability available to access this subset of data.

Safeguards:

Paper records are kept in locked offices at the Local, Area, State, and National Offices. For electronic records and an online retrieval system at the Finance Office access is restricted to authorized Rural Development personnel. A system of operator and terminal passwords and code numbers is used to restrict access to the online system. Passwords and code numbers are changed as necessary.

The records are protected by the confidentiality requirements of the USDA Office of the Chief Information Officer (OCIO) Cyber Security Manuals and the provisions of the Privacy Act. Only authorized USDA employees will have access to the records in this system on a need to know basis. Role based access controls are used and the systems are accessible via the USDA Intranet. Only authorized USDA personnel will have access to these records. The systems covered by this notice have been categorized as having a Moderate security categorization impact as identified in Federal Information Processing Standard (FIPS) 199, Standards for Security Categorization of Federal Information and Information Systems. The security controls implemented within the systems will correspond with those published in the National Institute of Standards and Technology (NIST) Special Publication 800-53, Recommended Security Controls for Federal Information Technology Systems for a Moderate impact system.

Users are only granted system access upon successful completion of information security training and each user is supplied with a unique and strong user-id and password. The user roles are restrictive and based on the principle of least privilege allowing for adequate performance of job functions and access to information is based on a need to know.

Due to the financial nature of the systems covered by this notice, the systems also adhere to the security controls identified in the Federal Information Security Control Audit Manual (FISCAM). The mandatory requirements of FIPS 199 and FIPS 200, Minimum Security Requirements for Federal Information and Information Systems, support the Federal Information Security Management Act (FISMA) and the FISCAM supports the mandated Office of Management and Budget (OMB) Circular A-123, Management of Internal Controls.

Moreover, Specific USDA security requirements are adhered to through the USDA Cyber Security Manuals including but not limited to: DM3545-000, Personnel Security, and DM3510-001, Physical Security Standards for Information Technology Restricted Space.

Retention and disposal:

Records are maintained subject to the Federal Records Disposal Act of 1943 (44 U.S.C. 33), and in accordance with Rural Development's disposal schedules. The Local, Area, State, and National Offices dispose of records by shredding, burning, or other suitable disposal methods after established retention periods have been fulfilled. (Destruction methods may never compromise the confidentiality of information contained in the records.) Applications, including credit reports and personal references, which are rejected, withdrawn, or otherwise terminated are kept in the Local, Area, or State Office for two full fiscal years and one month after the end of the fiscal year in which the application was rejected, withdrawn, canceled, or expired. If final action was taken on the application, including an appeal, investigation, or litigation, the application is kept for one full fiscal year after the end of the fiscal year in which final action was taken.

The records, including credit reports, of borrowers who have paid or otherwise satisfied their obligation are retained in the Local, Area, or State Office for one full fiscal year after the fiscal year in which the loan was paid in full. Correspondence records at the National Office which concern borrowers and applicants are retained for three full fiscal years after the last year in which there was correspondence.

System manager(s) and address:

The Community Development Manager at the Local Office; the Rural Development Manager at the Area Office; and the State Director at the State Office; the Deputy Chief Financial Officer in St. Louis, MO; and the respective Administrators in the National Office at the following addresses: Administrator, Rural Housing Service, USDA, 1400 Independence Avenue SW., Room 5014, South Building, Stop 0701, Washington, DC 20250-0701; Administrator, Rural Business-Cooperative Service, USDA, 1400 Independence Avenue SW., Room 5045, South Building, Stop 3201, Washington, DC 20250-3201; Administrator, Rural Utilities Service, USDA, 1400 Independence Avenue SW., Room 4501, South Building, Stop 1510, Washington, DC 20250-1510. Contact information can be found at http://www.rd.usda.gov.

Notification procedure:

Any individual may request information regarding this system of records, or determine whether the system contains records pertaining to him/her, from the appropriate System Manager. If the specific location of the record is not known, the individual should address his or her request to: Rural Development, Freedom of information Officer, United States Department of Agriculture, 1400 Independence Avenue SW., Stop 0742, and Washington, DC 20250-0742.

A request for information pertaining to an individual must include a name; an address; the Rural Development office where the loan or grant was applied for, approved, and/or denied; the type of Rural Development program; and the date of the request or approval.

Record access procedures:

Any individual may obtain information regarding the procedures for gaining access to a record in the system which pertains to him or her by submitting a written request to one of the System Managers.

Contesting record procedures:

Same as record access procedures.

Record source categories:

Information in this system comes primarily Credit reports and personal references come primarily from current or prospective producers or landowners, applicants, borrowers, grantees, tenant. Credit agencies and creditors.

Exemptions claimed for the system:

None.

[FR Doc. 2016-09938 Filed 4-27-16; 8:45 am]

BILLING CODE 3410-XT-P